DEPARTMENT OF DEFENSE

Department of the Navy

32 CFR Part 716

[Docket ID: USN-2019-HQ-0016]

RIN 0703-AB23

Death Gratuity

AGENCY: Department of the Navy (DON), DoD.

ACTION: Final rule.

SUMMARY: This final rule removes the Department of the Navy (DON) regulation requiring the Secretary of the Navy to pay a death gratuity between $800 and $3,000 upon the death of a member of the naval service while on active duty, active duty for training, or inactive duty training. That benefit is enumerated in both U.S. Code and the Department of Defense (DoD) Financial Management Regulation. The DoD and DON have robust procedures for responding to the death of a service member. This part has been determined to be duplicative of statute and internal policy, thus it should be removed from the CFR.

DATES: This rule is effective on April 1, 2020.

FOR FURTHER INFORMATION CONTACT: CDR Dave Melson at 703-697-1311.

SUPPLEMENTARY INFORMATION: 32 CFR part 716, “Death Gratuity,” last updated on May 2, 1979 (44 FR 25647), contains information regarding DON payments of death gratuity. The Department of Defense publishes the policies, process and requirements around death gratuity payments in Chapter 36 of Volume 7A of the Financial Management Regulation (DoD 7000.14-R was updated March 2018 and is available at https://comptroller.defense.gov/Portals/45/documents/fmr/Volume_07a.pdf). Additionally, 10 U.S. Code 1475-1480 captures all current guidance related to the death gratuity. It has been determined that publication of this CFR part removal for public comment is impracticable, unnecessary, and contrary to public interest since this subject matter is already addressed in statute and by internal DoD policies and procedures that are publicly available on the Department's website.

This rule is not significant under Executive Order (E.O.) 12866, “Regulatory Planning and Review.” Therefore, E.O. 13771, “Reducing Regulation and Controlling Regulatory Costs” does not apply.

Removal of this part supports a recommendation of the DoD Regulatory Reform Task Force.

List of Subjects in 32 CFR Part 716

Military personnel.

PART 716—[REMOVED]

Accordingly, by the authority of 5 U.S.C. 301, 32 CFR part 716 is removed.

Dated: March 26, 2020.
D.J. Antenucci,
Commander, Judge Advocate General's Corps, U.S. Navy, Federal Register Liaison Officer.

[FR Doc. 2020-06694 Filed 3-31-20; 8:45 am]

BILLING CODE 3810-FF-P